DEPARTMENT OF DEFENSE

Office of the Secretary

[Transmittal No. 17-58]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-58 with attached Policy Justification and Sensitivity of Technology.

Dated: December 5, 2017.
Aaron Siegel,
Alternate OSD Federal Register Liaison Officer, Department of Defense.

Transmittal No. 17-58

Notice of Proposed Issuance of Letter of Offer Pursuant to Section 36(b)(1) of the Arms Export Control Act, as amended

(i) Prospective Purchaser: Government of Singapore

(ii) Total Estimated Value:

Major Defense Equipment * | $13 million
Other | $402 million
Total | $415 million

(iii) Description and Quantity or Quantities of Articles or Services under Consideration for Purchase: Follow-on support and services related to Singapore's Continental United States (CONUS) F-15 detachment PEACE CARVIN V.

Major Defense Equipment (MDE):

Forty (40) GBU-10 Paveway II Laser Guided Bomb (LGB) Units, consisting of: MXU-651B/B Air Foil Groups (AFG), MAU-209C/B or MAU-169L/B Computer Control Groups (CCG), MK-84 or BLU-117B/B Bomb Bodies

Eighty four (84) GBU-12 Paveway II LGB Units, consisting of: MXU-650C/B AFG, MAU-209C/B or MAU-168L/B CCGs, MK-82 or BLU-111B/B Bomb Bodies

Sixty (60) FMU-152 or FMU-139D/B Fuzes

Non-MDE: Also included are AIM-120 Telemetry Kits; target drones; High-Bandwidth Compact Telemetry Module kits; exercise participation support; weapons, Electronic Combat International Security Assistance Program (ECISAP), and systems support; medical support; vehicle and ferry support; airlift and aerial refueling; individual equipment; maintenance, spare and repair parts; publications and technical documentation; personnel training and training equipment; U.S. Government and contractor, logistics, and technical support services; and other related elements of logistical and program support.

(iv) Military Department: Air Force (SN-D-NAG)

(v) Prior Related Cases, if any: SN-D-NDA

(vi) Sales Commission, Fee, etc., Paid, Offered, or Agreed to be Paid: None

(vii) Sensitivity of Technology Contained in the Defense Article or Defense Services Proposed to be Sold: See Attached Annex

(viii) Date Report Delivered to Congress: November 29, 2017

* As defined in Section 47(6) of the Arms Export Control Act.

POLICY JUSTIFICATION

Singapore—Follow-On Support for PEACE CARVIN V (F-15 Training Detachment)

The Government of Singapore has requested to purchase forty (40) GBU-10 Paveway II Laser Guided Bomb (LGB) units, consisting of: MXU-651B/B Air Foil Groups (AFG), MAU-209C/B or MAU-169L/B Computer Control Groups (CCG), MK-84 or BLU-117B/B bomb bodies; eighty four (84) GBU-12 Paveway II LGB units, consisting of: MXU-650C/B AFG, MAU-209C/B or MAU-168L/B CCGs, MK-82 or BLU-111B/B bomb bodies; and sixty (60) FMU-152 or FMU-139D/B fuzes. Also included are AIM-120 Telemetry Kits; target drones; High-Bandwidth Compact Telemetry Module kits; exercise participation support; weapons, Electronic Combat International Security Assistance Program (ECISAP), and systems support; medical support; vehicle and ferry support; airlift and aerial refueling; individual equipment; maintenance, spare and repair parts; publications and technical documentation; personnel training and training equipment; U.S. Government and contractor, logistics, and technical support services; and other related elements of logistical and program support. The estimated cost is $415 million.

This proposed sale will contribute to the foreign policy and national security of the United States by helping to improve the security of a critical regional partner that has been, and continues to be, an important force for economic progress in Southeast Asia.

This potential sale will continue to improve Singapore's ability to develop mission-ready and experienced pilots to support its F-15 aircraft inventory. The well-established pilot proficiency training program at Mountain Home Air Force Base will support professional interaction and enhance operational interoperability with U.S. Forces. Singapore will have no difficulty absorbing this equipment and support into its armed forces.

The proposed sale of this equipment and support will not alter the basic military balance in the region.

There is no prime contractor involved in this proposed sale. Manpower support will be determined through competition with defense articles anticipated to come from U.S. stocks, as needed. Sources of supply will award contracts when necessary to provide the defense articles if items are not available from U.S. stock or are considered long lead-time away. There are no known offset agreements proposed in connection with this potential sale.

Implementation of this proposed sale will not require the assignment of any additional U.S. Government or contractor representatives to Singapore.

There will be no adverse impact on U.S. defense readiness as a result of this proposed sale.

Transmittal No. 17-58

Notice of Proposed Issuance of Letter of Offer Pursuant to Section 36(b)(1) of the Arms Export Control Act

Annex

Item No. vii

(vii) Sensitivity of Technology:

1. This potential sale will involve the release of sensitive technology to the Government of Singapore, including Paveway II (PWII) Laser Guided Bombs (LGB) GBU-10 and -12. The PWII LGBUs have an overall export classification of CONFIDENTIAL. The related subcomponents: MXU-209 C/B or MAU-169 L/B control and guidance kits, FMU-152 or FMU-139D/B fuzes, MK-82 or BLU-111 B/B bomb bodies, and MK-84 or BLU-117 B/B bomb bodies are UNCLASSIFIED.

2. The PWII LGB, is a maneuverable, free-fall weapon that guides to a spot of laser energy reflected off of the target. The LGB is delivered like a normal general purpose (GP) bomb and the semi-active guidance corrects for many of the normal errors inherent in any delivery system. Laser designation for the LGB can be provided by a variety of laser target markers or designators. An LGB consists of a Computer Control Group (CCG) that is not warhead specific and warhead specific Air Foil Group (AFG) that attaches to the nose and tail of a GP bomb body. The PWII can use either the FMU-152 or FMU-139D/B fuzes. Singapore currently has FMU-152 fuzes available and will be purchasing additional compatible fuzes to support new munitions requirements.

a. GBU-10 is a 2,000lb (MK-84 or BLU-117 B/B) GP bomb body fitted with the MXU-651 AFG, and MAU-209C/B or MAU-169 L/B CCG to guide to its laser designated target.

b. GBU-12 is a 500lb (MK-82 or BLU-111 B/B) GP bomb body fitted with the MXU-650 AFG, and MAU-209C/B or MAU-168L/B CCGs to guide to its laser designated target.

3. FMU-152 fuzes are a multifunction, multiple delay fuze system with hardened target capabilities that provide arming and fuzing functions for general purpose and penetrating, unitary warheads. The fuze can set or reset during munitions buildup, aircraft loading, ground servicing, or during flight from the cockpit. The system includes the fuze, closure ring, FZU-63 initiator, and power cable. The hardware is UNCLASSIFIED.

4. AIM-120 Telemetry Kits Non-Development Item/Airborne Instrument Units (NDI/AIU) hardware are UNCLASSIFIED. The NDU/AIU includes a telemetry transmitter, a flight termination system, a C-band beacon and upper S-band capability to include antenna. The NDI/AIU will be used for Singapore's participation in Continental United States (CONUS) based exercises and shall not be released, transferred, or exported to Singapore. All data shall only be collected, transmitted or reviewed by qualified U.S. personnel.

5. The High-Bandwidth Compact Telemetry Modules (HCTM) and Telemetry Cable Kits hardware are UNCLASSIFIED. HCTM are used for Joint Direct Attack Munition integration, developmental, or operational testing; and will be used for Singapore's participation in Continental United States (CONUS) based exercises and shall not be released, transferred, or exported to Singapore. All data shall only be collected, transmitted or reviewed by qualified U.S. personnel.

6. If a technologically advanced adversary were to obtain knowledge of the specific hardware and software elements, the information could be used to develop countermeasures that might reduce weapon system effectiveness or be used in the development of a system with similar or advanced capabilities.

7. A determination has been made that Singapore can provide substantially the same degree of protection for the sensitive technology being released as the U.S. Government. This proposed sale is necessary to further the U.S. foreign policy and national security objectives outlined in the Policy Justification.

8. All defense articles and services listed on this transmittal are authorized for release and export to the Government of Singapore.

[FR Doc. 2017-26566 Filed 12-8-17; 8:45 am]

BILLING CODE 5001-06-P